DEPARTMENT OF AGRICULTURE

Agricultural Marketing Service

[Docket Number FV-04-311]

United States Standards for Grades of Kale

AGENCY: Agricultural Marketing Service, USDA.

ACTION: Notice; request for public comment.

SUMMARY: The Agricultural Marketing Service (AMS) of the Department of Agriculture (USDA) is soliciting comments on it's proposal to revise the United States Standards for Grades of Kale. This action is being taken at the request of the Fruit and Vegetable Industry Advisory Committee, which asked AMS to review the grade standards for possible revision. AMS is proposing to revise the standards to allow percentages to be determined by count rather than weight. AMS is also proposing to revise the application of tolerances for packages which contain less than 15 specimens. Additionally, based on a request from an industry group, the North American Perishable Agriculture Receivers (NAPAR), AMS is proposing to allow the standards to be used for kale leaves and bunches of leaves in addition to kale plants. The proposed revision would bring the standards for kale in line with current marketing practices, thereby improving the usefulness in serving the industry.

DATES: Comments must be received by May 10, 2005.

ADDRESSES: Interested persons are invited to submit written comments to the Standardization Section, Fresh Products Branch, Fruit and Vegetable Programs, Agricultural Marketing Service, U.S. Department of Agriculture, 1400 Independence Ave. SW., Room 1661, South Building, Stop 0240, Washington, DC 20250-0240; Fax (202) 720-8871, E-mail FPB.DocketClerk@usda.gov.

Comments should make reference to the dates and page number of this issue of the Federal Register and will be made available for public inspection in the above office during regular business hours. The United States Standards for Grades of Kale are available either through the address cited above or by accessing the Fresh Products Branch Web site at http://www.ams.usda.gov/standards/stanfrfv.htm.

FOR FURTHER INFORMATION CONTACT: David L. Priester, at the above address or call (202) 720-2185; E-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is proposing to revise the voluntary U.S. Standards for Grades of Kale using procedures that appear in Part 36 Title 7 of the Code of Federal Regulations (7 CFR Part 36). These standards were last revised in 1934.

Background

Prior to undertaking research and other work associated with revision of the grade standards, AMS published a notice in the Federal Register (69 FR 58879) on October 1, 2004, soliciting comments on the possible revision to the United States Standards for Grades of Kale.

In response to our request for comments, AMS received one comment from an industry group, NAPAR. The comment was in favor of the proposed revision.

The proposed revision will allow percentages to be determined by count rather than weight. AMS is also proposing to revise the application of tolerances for packages which contain less than 15 specimens. This change will allow double the tolerances specified, and that at least one defective specimen may be permitted in any sample, as long as the average for the entire lot is within the tolerance specified for the grade.

AMS also received a request from NAPAR to allow the standards to be used for kale leaves and bunched kale leaves in addition to kale plants. Currently the standards only apply to kale plants. This proposal will bring the standards for kale in line with current marketing practices, thereby, improving the usefulness of the standards in serving the industry.

The official grade of a lot of kale covered by these standards is determined by the procedures set forth in the Regulations Governing Inspection, Certification, and Standards of Fresh Fruits, Vegetables and Other Products (Sec. 51.1 to 51.61).

This notice provides for a 60-day comment period for interested parties to comment on changes to the standard.

Authority: 7 U.S.C. 1621-1627.

Dated: March 7, 2005.
Kenneth C. Clayton,
Acting Administrator.

[FR Doc. 05-4813 Filed 3-10-05; 8:45 am]

BILLING CODE 3410-02-P